DEPARTMENT OF ENERGY

Federal Energy Regulatory Commission

[Project No. 14341-000]

Longview Energy Exchange, LLC; Notice of Preliminary Permit Application Accepted for Filing and Soliciting Comments, Motions To Intervene, and Competing Applications

On January 3, 2012, Longview Energy Exchange, LLC, filed an application for a preliminary permit, pursuant to section 4(f) of the Federal Power Act (FPA), proposing to study the feasibility of the Longview Pumped Storage Project (project) to be located Ash Fork City, Yavapai County, Arizona. The sole purpose of a preliminary permit, if issued, is to grant the permit holder priority to file a license application during the permit term. A preliminary permit does not authorize the permit holder to perform any land-disturbing activities or otherwise enter upon lands or waters owned by others without the owners' express permission.

The proposed project would consist of the following: (1) Two upper reservoirs constructed of rock fill each with a dam drainage system; (2) a single lower reservoir dam constructed of earth fill materials with an internal dam drainage system; (3) concrete inlet-outlet structures at both upper reservoirs equipped with trash racks; (4) water conductors constructed of concrete-lined pressure tunnels; (5) three 12.5-foot-diameter penstocks serving the pump-turbine units associated with both upper reservoirs; (6) surge control facilities; (7) a 500-foot-long by 100-foot-wide and 150-foot-high reinforced concrete powerhouse containing 6 units; (8) a switchyard to be located near the powerhouse; (9) a 38-mile-long, 500-kilovolt (kV) transmission line extending from the project to an interconnection with the existing Arizona Public Service owned and operated Eldorado-Moenkopi 500-kV line; (10) a 27-mile-long, 500-kilovolt (kV) transmission line extending from the project to an interconnection with an existing Western Area Power Administration owned and operated 230-kV (to be upgraded to 500-kV); and (11) appurtenant facilities. The estimated annual generation of the Longview Pumped Storage Project would be 35,040 gigawatt-hours.

Applicant Contact: Mr. Mitchell M. Wexler, Manager, Longview Energy Exchange, 13397 Lakefront Drive, Saint Louis, Missouri 63045; phone: (314) 739-5555.

FERC Contact: Mary Greene; phone: (202) 502-8865.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14341) in the docket number field to access the document. For assistance, contact FERC Online Support.

Dated: January 12, 2012.
Kimberly D. Bose,
Secretary.

[FR Doc. 2012-1075 Filed 1-19-12; 8:45 am]

BILLING CODE 6717-01-P